DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of July, 2001.

In order for an affirmative determination to be made and a certification of eligibility to apply for worker adjustment assistance to be issued, each of the group eligibility requirements of section 222 of the Act must be met.

(1) That a significant number or proportion of the workers in the workers' firm, or an appropriate subdivision thereof, have become totally or partially separated,

(2) That sales or production, or both, of the firm or sub-division have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

None.

In the following cases, the investigation revealed that the criteria for eligibility have not been met for the reasons specified.

Increased imports did not contribute importantly to worker separations at the firm.

TA-W-39,222; Butterick Co., Inc., Altoona, PA

TA-W-38,999; Detroit Tool and Engineering, Lebanon, MO

TA-W-39,512; Royce Hosiery Mils, Inc., High Point, NC

TA-W-39,313; Lynn Electronics, Feasterville, PA

TA-W-39,230; Chahaya Optronics, Inc., Fremont, CA

The workers firm does not produce an article as required for certification under Section 222 of the Trade Act of 1974

TA-W-39,367; Computrex, Inc., Nicholasville, KY

Affirmative Determinations for Worker Adjustment Assistance

The following certifications have been issued; the date following the company name and location of each determination references the impact date for all workers of such determination.

TA-W-39,569; Alamac Knit Fabrics, Dyersburg Corp., Clinton, NC: June 20, 2000.

TA-W-39,314; Southern Glove Manufacturing Co., Inc., Mountain City Glove Div., Mountain City, TN: April 20, 2000.

TA-W-39,189; Southern Glove Manufacturing Co., Inc., Knitting Department, Newton, NC: April 20, 2000.

TA-W-39,391; BMH Chronos Richardson, Inc., Fairfield, NJ: May 17, 2000.

Also, pursuant to Title V of the North American Free Trade Agreement Implementation Act (Pub. L. 103-182) concerning transitional adjustment assistance hereinafter called (NAFTA-TAA) and in accordance with section 250(a), subchapter D, chapter 2, title II, of the Trade Act as amended, the Department of Labor presents summaries of determinations regarding eligibility to apply for NAFTA-TAA issued during the month of July, 2001.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment the either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-04880; Southern Glove Manufacturing Co., Inc., Mountain City Glove Div., Mountain City, TN

NAFTA-TAA-04801; Southern Glove Manufacturing Co., Inc., Knitting Department, Newton, NC

NAFTA-TAA-04884; Cooper Eagle Hosiery Mills, Inc., Hildebran, NC

The investigation revealed that the criteria for eligibility have not been met for the reasons specified.

The workers firm does not produce an article as required for certification under Section 22 of the Trade Act of 1974.

NAFTA-TAA-04911; Computrex, Inc., Nicholasville, KY

Affirmative Determinations NAFTA-TAA

None

I hereby certify that the aforementioned determinations were issued during the month of July, 2001. Copies of these determinations are available for inspection in Room C-5311, U.S. Department of Labor, 200 Constitution Avenue, NW., Washington, DC 20210 during normal business hours or will be mailed to persons who write to the above address.

Dated: July 13, 2001.
Edward A. Tomchick,
Director, Division of Trade Adjustment Assistance.

[FR Doc. 01-18625 Filed 7-25-01; 8:45 am]

BILLING CODE 4510-30-M